DEPARTMENT OF THE TREASURY

Agency Information Collection Activities; Submission for OMB Review; Comment Request; Multiple Fiscal Service Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice.

DATES: Comments should be received on or before March 6, 2017 to be assured of consideration.

ADDRESSES: Send comments regarding the burden estimates, or any other aspect of the information collections, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8142, Washington, DC 20220, or email at PRA@treasury.gov.

FOR FURTHER INFORMATION CONTACT: Copies of the submissions may be obtained by emailing PRA@treasury.gov, calling (202) 622-0934, or viewing the entire information collection request at www.reginfo.gov.

SUPPLEMENTARY INFORMATION:

Fiscal Service (FS)

OMB Control Number: 1530-0001.

Type of Review: Extension without change of a currently approved collection.

Title: Minority Bank Deposit Program (MBDP) Certification Form for Admission.

Form: FS Form 3144.

Abstract: A financial institution who wants to participate in the MBDP must complete this form. The approved application certifies the institution as minority and is admitted into the program.

Affected Public: Businesses or other for-profits.

Estimated Total Annual Burden Hours: 64.

OMB Control Number: 1530-0036.

Type of Review: Extension without change of a currently approved collection.

Title: Request to Reissue U.S. Savings Bonds to a Personal Trust.

Form: FS Form 1851.

Abstract: The information is necessary to support a request for reissue of savings bonds in the name of the trustee of a personal trust estate.

Affected Public: Individuals or Households.

Estimated Total Annual Burden Hours: 2,650.

OMB Control Number: 1530-0038.

Type of Review: Extension without change of a currently approved collection.

Title: Application by Survivors for Payment of Bond or Check Issued Under Armed Forces Leave Act of 1946.

Form: FS Form 2066.

Abstract: Used by survivors for payment of bonds issued under Armed Forces Leave Act of 1946. The information is to identify the bonds and/or checks involved and to establish a survivor's claim in order to issue payment.

Affected Public: Individuals or Households.

Estimated Total Annual Burden Hours: 1,250.

OMB Control Number: 1530-0041.

Type of Review: Extension without change of a currently approved collection.

Title: Application for Recognition as Natural Guardian of Minor Not Under Legal Guardianship and for Disposition of Minor's Interest In Registered Securities.

Form: FS Form 2481.

Abstract: The information is collected to apply for recognition as a natural guardian and request disposition of securities belonging to a minor in situations where a natural guardian is no longer acting or a legal representative is not appointed. Regulations governing U.S. Securities prohibit the registration of securities in the name of a minor in their own right. The natural guardian may be given responsibility for the securities. The information is used to identify the securities involved and to establish the authority to reissue the securities or payment in lieu thereof.

Affected Public: Individuals or Households.

Estimated Total Annual Burden Hours: 208.

Authority: 44 U.S.C. 3501 et seq.

Dated: January 30, 2017.
Spencer Clark,
Treasury PRA Clearance Officer.

[FR Doc. 2017-02203 Filed 2-1-17; 8:45 am]

BILLING CODE 4810-AS-P